DEPARTMENT OF COMMERCE

International Trade Administration

[A-588-054; A-588-604]

Tapered Roller Bearings and Parts Thereof, Finished and Unfinished, From Japan, and Tapered Roller Bearings, Four Inches or Less in Outside Diameter, and Components Thereof, From Japan; Preliminary Results of Antidumping Duty Administrative Reviews

AGENCY: Import Administration, International Trade Administration, Department of Commerce.

ACTION: Notice of Preliminary Results of Antidumping Duty Administrative Reviews.

SUMMARY: In response to requests by the petitioner and two respondents, the Department of Commerce (the Department) is conducting administrative reviews of the antidumping duty order on tapered roller bearings (TRBs) and parts thereof, finished and unfinished, from Japan (A-588-604), and of the antidumping finding on TRBs, four inches or less in outside diameter, and components thereof, from Japan (A-588-054). The review of the A-588-054 finding covers two manufacturers/exporters of the subject merchandise to the United States during the period October 1, 1998, through September 30, 1999. The review of the A-588-604 order covers three manufacturers/exporters and the period October 1, 1998, through September 30, 1999.

We preliminarily determine that sales of TRBs have been made below the normal value (NV) for all respondents. If these preliminary results are adopted in our final results of administrative review, we will instruct the U.S. Customs Service to assess antidumping duties based on the difference between United States price and the NV. Interested parties are invited to comment on these preliminary results. Parties who submit argument in these proceedings are requested to submit with the argument (1) a statement of the issues and (2) a brief summary of the argument.

EFFECTIVE DATE: November 7, 2000.

FOR FURTHER INFORMATION CONTACT: Deborah Scott (NTN or NSK), Patricia Tran (Koyo Seiko), or Robert James, AD/CVD Enforcement, Group III, Import Administration, International Trade Administration, U.S. Department of Commerce, 14th Street and Constitution Avenue, NW., Washington, DC 20230, telephone : (202) 482-2657, (202) 482-2704, or (202) 482-0649, respectively.

Applicable Statute and Regulations

Unless otherwise indicated, all citations to the Tariff Act of 1930, as amended (the Tariff Act) are references to the provisions effective January 1, 1995, the effective date of the amendments made to the Tariff Act by the Uruguay Rounds Agreements Act. In addition, unless otherwise indicated, all citations to the Department's regulations are to 19 CFR Part 351 (April 1, 2000).

SUPPLEMENTARY INFORMATION:

Background

On August 18, 1976 the Treasury Department published in the Federal Register (41 FR 34974) the antidumping finding on TRBs from Japan (the A-588-054 case), and on October 6, 1987 the Department published the antidumping duty order on TRBs from Japan (the A-588-604 case) (52 FR 37352). On October 20, 1999, the Department published the notice of “Opportunity to Request Administrative Review” for both TRB cases covering the period October 1, 1998 through September 30, 1999 (64 FR 56485).

In accordance with 19 CFR 351.213 (b)(1), the petitioner, the Timken Company (Timken), requested that we conduct a review of Koyo Seiko Co., Ltd. (Koyo) and NSK Ltd. (NSK) in both the A-588-054 and A-588-604 cases. Timken also requested that we conduct a review of NTN Corporation (NTN) in the A-588-604 TRB case. In addition, NTN requested that the Department conduct a review in the A-588-604 case and NSK requested that the Department conduct a review in both the A-588-604 and A-588-054 cases. On December 3, 1999, we published in the Federal Register a notice of initiation of these antidumping duty administrative reviews covering the period October 1, 1998 through September 30, 1999 (64 FR 67846).

Because it was not practicable to complete these reviews within the normal time frame, on May 26, 2000, we published in the Federal Register our notice of the extension of the time limits for both the A-588-054 and A-588-604 reviews (65 FR 34148). This extension established the deadline for these preliminary results of October 31, 2000.

Scope of the Reviews

Imports covered by the A-588-054 finding are sales or entries of TRBs, four inches or less in outside diameter when assembled, including inner race or cone assemblies and outer races or cups, sold either as a unit or separately. This merchandise is classified under Harmonized Tariff Schedule (HTS) item numbers 8482.20.00 and 8482.99.15.

Imports covered by the A-588-604 order include TRBs and parts thereof, finished and unfinished, which are flange, take-up cartridge, and hanger units incorporating TRBs, and roller housings (except pillow blocks) incorporating tapered rollers, with or without spindles, whether or not for automotive use. Products subject to the A-588-054 finding are not included within the scope of this order, except those manufactured by NTN. This merchandise is currently classifiable under HTS item numbers 8482.20.00, 8482.91.00, 8482.99.15, 8482.99.45, 8483.20.40, 8483.20.80, 8483.30.80, 8483.90.20, 8483.90.30, and 8483.90.80. The HTS item numbers listed above for both the A-588-054 finding and the A-588-604 order are provided for convenience and Customs purposes. The written description remains dispositive.

The period for each 1998-99 review is October 1, 1998, through September 30, 1999. The review of the A-588-054 finding covers TRB sales by two manufacturers/exporters (Koyo and NSK). The review of the A-588-604 order covers TRBs sales by three manufacturers/exporters (Koyo, NTN, and NSK).

Verification

As provided in section 782(i) of the Tariff Act, we verified information provided by NTN and Koyo, using standard verification procedures, the examination of relevant sales and financial records, and selection of original documentation containing relevant information. Our verification results are outlined in the public versions of the verification reports, on file in Room B-099 in the main Commerce building.

Use of Facts Available

In accordance with section 776(a)(2)(B) of the Tariff Act, in these preliminary results we find it necessary to use partial facts available in those instances where a respondent did not provide us with certain information necessary to conduct our analysis. This occurred with respect to certain sales and cost information Koyo failed to report for its sales of U.S. further-manufactured merchandise subject to the A-588-604 order.

On February 11, 2000, Koyo requested that it not be required to submit a response to Section E of our questionnaire regarding its U.S. further-manufactured sales. We informed Koyo on April 11, 2000 that it was required to supply further-manufacturing data by responding to section E of the Department's questionnaire by May 2, 2000. Koyo did not provide section E data, as requested by our questionnaire. Therefore, as in Tapered Roller Bearings and Parts Thereof, Finished and Unfinished, from Japan, and Tapered Roller Bearings, Four Inches or Less in Outside Diameter, and Components Thereof, from Japan; Final Results of Antidumping Duty Administrative Reviews and Revocation in Part, 65 FR 11767 (March 6, 2000) (1997-98 TRB Final), we have preliminarily determined that, pursuant to section 776(a)(2)(B) and 776(b) of the Tariff Act, it is appropriate to make an inference adverse to the interests of Koyo because it failed to cooperate by not responding to the Department's request for information.

Section 776(a)(2)(b) of the Tariff Act provides that the Department will, subject to section 782(d), use the facts otherwise available in reaching a determination if a respondent fails to provide necessary information “by the deadlines for submission of the information or in the form and manner requested, subject to subsections (c)(1) and (e) of section 782” [of the Tariff Act]. Despite requests for information related to further processing in both our original and supplemental questionnaires, Koyo neglected to submit this information in the form and manner requested by the Department. Section 782(c)(1) of the Tariff Act does not apply in this instance since Koyo did not provide a full explanation of why it was not able to submit the further processing information requested in section E, nor did it suggest an alternative form in which it could submit section E data. Moreover, pursuant to section 782(d), Koyo was specifically informed that it was required to submit section E, yet it failed to do so and failed to provide any explanation of this deficiency. Finally, under section 782(e) the Department concludes that Koyo's information, absent section E, is too incomplete to serve as a reliable basis for this determination, and that Koyo has not acted to the best of its ability (see discussion below). Because we did not receive the further processing data we requested either in the form and manner outlined in section E or in an acceptable alternative format by our established deadline, we determine that the use of facts available is appropriate in this case for Koyo.

The Department is authorized, under section 776(b) of the Tariff Act, to use an inference that is adverse to the interest of a party if the Department finds that the party has failed to cooperate by not acting to the best of its ability to comply with the Department's request for information. We examined whether Koyo had acted to the best of its ability in responding to our requests for information. We took into consideration the fact that, as an experienced respondent in reviews of the TRB orders as well as the separate order covering antifriction bearings, it can reasonably be expected to know which types of information we request in each review. Because Koyo has submitted to the Department in previous TRB reviews complete further-manufacturing responses, we have determined that it failed to act to the best of its ability in providing the data we requested and that adverse inferences are warranted. See Tapered Roller Bearings and Parts Thereof, Finished and Unfinished, from Japan, and Tapered Roller Bearings, Four Inches or Less in Outside Diameter, and Components Thereof, from Japan; Preliminary Results of the Antidumping Duty Administrative Reviews and Termination in Part, 61 FR 25200 (May 20, 1996). As a result, we have used the highest rate determined for Koyo from any prior segment of the A-588-604 proceedings as partial adverse facts available, which is secondary information within the meaning of section 776(c) of the Tariff Act. See 19 CFR 351.308(c)(1)(iii).

Section 776(c) of the Tariff Act provides that the Department shall, to the extent practicable, corroborate secondary information used as facts available from independent sources reasonably at its disposal. The Statement of Administrative Action (SAA) provides that “corroborate” means simply that the Department will satisfy itself that the secondary information to be used has probative value (see H.R. Doc. 103-316, Vol. 1, at 870 (1994); 19 CFR 351.308(d)).

To corroborate secondary information, the Department will, to the extent practicable, examine the reliability and relevance of the information used. However, unlike other types of information, such as input costs or selling expenses, there are no independent sources for calculated dumping margins. The only source for calculated margins is administrative determinations. Thus, in an administrative review, if the Department chooses as adverse facts available a calculated dumping margin from a prior segment of the proceeding, it is not necessary to question the reliability of the margin for that time period. With respect to the relevance aspect of corroboration, however, the Department will consider information reasonably at its disposal as to whether there are circumstances that would render a margin irrelevant. Where circumstances indicate that the selected margin is not appropriate as adverse facts available, the Department will disregard the margin and determine an appropriate margin (see Fresh Cut Flowers from Mexico; Preliminary Results of Antidumping Duty Administrative Review, 60 FR 49567 (February 22, 1996), where we disregarded the highest margin in the case as best information available because the margin was based on another company's uncharacteristic business expense resulting in an extremely high margin).

For these preliminary results, we have examined the history of the A-588-604 case and have determined that 41.04 percent, the rate we calculated for Koyo in the 1993-94 A-588-604 review, is the highest rate for this firm in any prior segment of the A-588-604 order. See Tapered Roller Bearings and Parts Thereof, Finished and Unfinished, From Japan, and Tapered Roller Bearings, Four Inches or Less in Outside Diameter, and Components Thereof, From Japan; Final Results of Administrative Review and Termination in Part, 63 FR 20585 (April 27, 1998). In the absence of information on the administrative record that application of this 41.04 percent rate would be inappropriate, that the margin is not relevant, or that leads us to re-examine this rate as adverse facts available in the instant review, we find the margin reliable and relevant. As a result, for these preliminary results we have applied as adverse facts available, a margin of 41.04 percent to Koyo's further-manufactured U.S. sales.

Export Price and Constructed Export Price

Because all of Koyo's and NSK's sales and certain of NTN's sales of subject merchandise were first sold to unaffiliated purchasers after importation into the United States, in calculating U.S. price for these sales we used constructed export price (CEP) as defined in section 772(b) of the Tariff Act. We based CEP on the packed, delivered price to unaffiliated purchasers in the United States. We made deductions, where appropriate, for discounts, billing adjustments, freight allowances, and rebates. Pursuant to section 772(c)(2)(A) of the Tariff Act, we reduced this price for movement expenses (Japanese pre-sale inland freight, Japanese post-sale inland freight, international air and/or ocean freight, marine insurance, Japanese brokerage and handling, U.S. inland freight from the port to the warehouse, U.S. inland freight from the warehouse to the customer, U.S. duty, post-sale warehousing, pre-sale warehousing, and U.S. brokerage and handling). We also reduced the price, where applicable, by an amount for the following expenses incurred in the selling of the merchandise in the United States pursuant to section 772(d)(1) of the Tariff Act: commissions to unaffiliated parties, U.S. credit, payments to third parties, U.S. repacking expenses, and indirect selling expenses (which included, where applicable, inventory carrying costs, indirect advertising expenses, and indirect technical services expenses). Finally, pursuant to section 772(d)(3) of the Tariff Act, we further reduced U.S. price by an amount for profit to arrive at CEP.

In the instant review NTN claimed an offsetting adjustment to its U.S. indirect selling expenses to account for “the interest expense incurred financing antidumping duty deposits.” See NTN's April 28, 2000 Supplemental Questionnaire Response at C-6 and C-7. Because we have long maintained, and continue to maintain, that antidumping duties, and cash deposits of antidumping duties, are not expenses that we should remove from U.S. indirect selling expenses, we have continued to deny such an adjustment. See, e.g., Tapered Roller Bearings and Parts Thereof, Finished and Unfinished, from Japan, and Tapered Roller Bearings, Four Inches or Less in Outside Diameter, and Components Thereof, from Japan; Final Results of Antidumping Duty Administrative Reviews, 63 FR 63860, 63865 (November 17, 1998) (1996-97 TRB Final).

Because certain of NTN's sales of subject merchandise were made to unaffiliated purchasers in the United States prior to importation into the United States and the CEP methodology was not indicated by the facts of record, in accordance with section 772(a) of the Tariff Act we used export price (EP) for these sales. We calculated EP as the packed, delivered price to unaffiliated purchasers in the United States. In accordance with section 772(c)(2)(A) of the Tariff Act, we reduced this price, where applicable, by Japanese pre-sale inland freight, Japanese post-sale inland freight, international air and/or ocean freight, marine insurance, Japanese brokerage and handling, U.S. brokerage and handling, U.S. duty, and U.S. inland freight.

Where appropriate, in accordance with section 772(d)(2) of the Tariff Act, the Department also deducts from CEP the cost of any further manufacture or assembly in the United States, except where the special rule provided in section 772(e) of the Tariff Act is applicable. Section 772(e) of the Tariff Act provides that, where the subject merchandise is imported by a person affiliated with the exporter or producer and the value added in the United States by the affiliated person is likely to exceed substantially the value of the subject merchandise, and if there is a sufficient quantity of sales to provide a reasonable basis for comparison and we determine that the use of such sales is appropriate, we shall determine the CEP for such merchandise using the price of identical or other subject merchandise sold by the exporter or producer to an unaffiliated person. If there is not a sufficient quantity of such sales to provide a reasonable basis for comparison, or if we determine that using the price of identical or other subject merchandise is not appropriate, we may use any other reasonable basis to determine CEP. See sections 772(e)(1) and (2) of the Tariff Act. In judging whether the use of identical or other subject merchandise is appropriate, the Department must consider several factors, including whether it is more appropriate to use another “reasonable basis.” Under some circumstances, we may use the standard methodology as a reasonable alternative to the methods described in sections 772(e)(1) and (2) of the Tariff Act. In deciding whether it is more appropriate to use the standard methodology, we have considered and weighed the burden on the Department in applying the standard methodology as a reasonable alternative and the extent to which application of the standard methodology will lead to more accurate results. The burden on the Department of using the standard methodology may vary from case to case depending on factors such as the nature of the further-manufacturing process and the finished products. The increased accuracy gained by applying the standard methodology will vary significantly from case to case, depending upon such factors as the amount of value added in the United States and the proportion of total U.S. sales that involve further manufacturing. In cases where the burden on the Department is high, it is more likely that the Department will determine that potential gains in accuracy do not outweigh the burden of applying the standard methodology. Thus, the Department likely will determine that application of the standard methodology is not more appropriate than application of the methods described in paragraphs 772(e)(1) and (2), or some other reasonable alternate methodology. By contrast, if the burden is relatively low and there is reason to believe the standard methodology is likely to be more accurate, the Department is more likely to determine that it is not appropriate to apply the methods described in paragraphs 772(e)(1) or (2) of the Tariff Act in lieu of the standard methodology. See Tapered Roller Bearings and Parts Thereof, Finished and Unfinished, from Japan, and Tapered Roller Bearings, Four Inches or Less in Outside Diameter, and Components Thereof, From Japan; Preliminary Results of Antidumping Duty Administrative Reviews, 62 FR 47452, 47455 (September 9, 1997) (1995-96 TRB Prelim).

NTN imported subject merchandise (TRB parts) which was further processed in the United States. NTN further manufactured the imported scope merchandise into merchandise of the same class or kind as merchandise within the scope of the A-588-604 order. Based on information provided by NTN in its January 10, 2000 and January 14, 2000 letters to the Department, we first determined whether the value added in the United States was likely to exceed substantially the value of the subject merchandise. We estimated the value added based on the differences between the averages of the prices charged to the first unaffiliated U.S. customer for the final merchandise sold (finished TRBs) and the averages of the prices paid by the affiliated party for the subject merchandise (imported TRB parts), and determined that the value added was likely to exceed substantially the value of the imported TRB parts.

We then examined whether it would be appropriate to use sales of identical or other subject merchandise to unaffiliated persons as a basis for comparison, as stated under paragraphs 772(e)(1) and (2) of the Tariff Act. Based on the information provided by NTN in Exhibit A-1 of its February 11, 2000 questionnaire response and its January 10, 2000 and January 14, 2000 letters, we determined that sales of identical or other subject merchandise to unaffiliated persons were in sufficient quantity for the purpose of determining dumping margins for NTN's imported TRBs which were further manufactured in the United States prior to resale. Furthermore, the proportion of NTN's further-manufactured merchandise to its total imports of subject merchandise was relatively low. In NTN's case, any potential gains in accuracy obtained by examining NTN's further-manufactured sales are outweighed by the burden of the applying the standard methodology. Accordingly, it would be appropriate to apply one of the methodologies specified in the statute with respect to NTN's imported TRB parts. Therefore, we have used the weighted-average dumping margins we calculated on NTN's sales of identical or similar subject merchandise to unaffiliated persons in the United States. See 19 CFR 351.402(c).

With respect to Koyo, while we determined that the value added to the United States was likely to exceed the value of the imported products, we have determined that the use of either of the two proxies specified in the statute is not appropriate. See Facts Available section for further information.

No other adjustments were claimed or allowed.

Normal Value

A. Viability

Based on (1) the fact that each company's quantity of sales in the home market was greater than five percent of its sales to the U.S. market and (2) the absence of any information that a particular market situation in the exporting country does not permit a proper comparison, we determined that the quantity of the foreign like product for all respondents sold in the exporting country was sufficient to permit a proper comparison with the sales of subject merchandise to the United States, pursuant to section 773(a) of the Tariff Act. Therefore, in accordance with section 773(a)(1)(B)(i) of the Tariff Act, we based NV on the prices at which the foreign like products were first sold for consumption in Japan.

B. Arm's-Length Sales

For all respondents we have excluded from our analysis those sales made to affiliated customers in the home market which were not at arm's length. We determined the arm's-length nature of home market sales to affiliated parties by means of our 99.5 percent arm's-length test in which we calculated, for each model, the percentage difference between the weighted-average prices to the affiliated customer and all unaffiliated customers and then calculated, for each affiliated customer, the overall weighted-average percentage difference in prices for all models purchased by the customer. If the overall weighted-average price ratio for the affiliated customer was equal to or greater than 99.5 percent, we determined that all sales to this affiliated customer were at arm's length. Conversely, if the ratio for a customer was less than 99.5 percent, we determined that all sales to the affiliated customer were not at arm's length because, on average, the customer paid less than unaffiliated customers for the same merchandise. Therefore, we excluded all sales to the customer from our analysis. Where we were unable to calculate an affiliated customer ratio because identical merchandise was not sold to both affiliated and unaffiliated customers, we were unable to determine if these sales were at arm's length and, therefore, excluded them from our analysis (see Certain Stainless Steel Wire Rods from France: Final Results of Antidumping Duty Administrative Review, 63 FR 30185 (June 3, 1998)).

C. Cost of Production Analysis

Because we disregarded sales made at prices below the cost of production (COP) in our last completed A-588-054 review for Koyo and NSK, and in our last completed A-588-604 review for NTN, Koyo, and NSK, we have reasonable grounds to believe or suspect that sales of the foreign like product under consideration for the determination of NV in this review for these companies may have been made at prices below the COP, as provided by section 773(b)(2)(A)(ii) of the Tariff Act (see 1997-98 TRB Final). Therefore, pursuant to section 773(b)(1) of the Tariff Act, we initiated a COP investigation of sales by NTN for the A-588-604 case and by Koyo and NSK for both TRB cases.

In accordance with section 773(b)(3) of the Tariff Act, we calculated COP based on the sum of the costs of materials and fabrication employed in producing the foreign like product, plus selling, general, and administrative expenses (SG&A) and the cost of all expenses incidental to placing the foreign like product in condition packed ready for shipment. We relied on the home market sales and COP information provided by Koyo, NTN, and NSK except in those instances where the data was not appropriately quantified or valued (see company-specific preliminary results analysis memoranda).

After calculating COP, we tested whether home market sales of TRBs were made at prices below COP within an extended period of time in substantial quantities and whether such prices permit the recovery of all costs within a reasonable period of time. We compared model-specific COPs to the reported home market prices less any applicable movement charges, discounts, or rebates.

Pursuant to section 773(b)(2)(C) of the Tariff Act, where less than 20 percent of a respondent's home market sales for a model are at prices less than the COP, we do not disregard any below-cost sales of that model because we determine that the below-cost sales were not made within an extended period of time in “substantial quantities.” Where 20 percent or more of a respondent's home market sales of a given model are at prices less than COP, we disregard the below-cost sales because they are (1) made within an extended period of time in substantial quantities in accordance with sections 773(b)(2)(B) and (C) of the Tariff Act, and (2) based on comparisons of prices to weighted-average COPs for the POR, were at prices which would not permit the recovery of all costs within a reasonable period of time in accordance with section 773(b)(2)(D) of the Tariff Act.

The results of our cost test for Koyo, NTN, and NSK indicated that for certain home market models less than 20 percent of the sales of the model were at prices below COP. We therefore retained all sales of these home market models in our analysis and used them as the basis for determining NV. Our cost test for these respondents also indicated that within an extended period of time (one year, in accordance with section 773(b)(2)(B) of the Tariff Act), for certain home market models, more than 20 percent of the home market sales were sold at prices below COP. In accordance with section 773(b)(1) of the Tariff Act, we therefore excluded these below-cost sales from our analysis and used the remaining above-cost sales as the basis for determining NV.

D. Product Comparisons

For all respondents we compared U.S. sales with contemporaneous sales of the foreign like product in the home market. We considered bearings identical on the basis of nomenclature and determined most similar TRBs using our sum-of-the-deviations model-match methodology which compares TRBs according to the following five physical criteria: inside diameter, outside diameter, width, load rating, and Y2 factor. We used a 20 percent difference-in-merchandise (difmer) cost deviation cap as the maximum difference in cost allowable for similar merchandise, which we calculated as the absolute value of the difference between the U.S. and home market variable costs of manufacturing divided by the total cost of manufacturing of the U.S. product.

E. Level of Trade

To the extent practicable, we determined NV for sales at the same level of trade as the U.S. sales (either EP or CEP). When there were no sales at the same level of trade, we compared U.S. sales to home market sales at a different level of trade. The NV level of trade is that of the starting-price sales in the home market. When NV is based on constructed value (CV), the level of trade is that of the sales from which we derived SG&A and profit.

To determine whether home market sales are at a different level of trade than U.S. sales, we examined stages in the marketing process and selling functions along the chain of distribution between the producer and the unaffiliated customer. If the comparison-market sales were at a different level of trade and the differences affected price comparability, as manifested in a pattern of consistent price differences between the sales on which NV is based and comparison-market sales at the level of trade of the export transaction, we made a level-of-trade adjustment under section 773(a)(7)(A) of the Tariff Act. See Notice of Final Determination of Sales at Less Than Fair Value: Certain Cut-to-Length Carbon Steel Plate from South Africa, 62 FR 61731 (November 19, 1997).

We determined that for respondents Koyo and NSK, there were two home market levels of trade and one U.S. level of trade (CEP). Because there was no home market level of trade equivalent to the U.S. level(s) of trade for Koyo and NSK, and because NV for these firms represented a price more remote from the factory than CEP, we made a CEP offset adjustment to NV. For NTN we found that there were three home market levels of trade and two (EP and CEP) levels of trade in the U.S. Because there were no home market levels of trade equivalent to NTN's CEP level of trade, and because NV for NTN represented a price more remote from the factory than CEP, we made a CEP offset adjustment to NV in our CEP comparisons. We also determined that NTN's EP level of trade was equivalent to one of NTN's home market levels of trade. Because we determined that there was a pattern of consistent price differences due to differences in levels of trade, we made a level of trade adjustment to NV for NTN in our EP comparisons where the U.S. EP sale matched to a home market sale at a different level of trade. For more detailed company-specific descriptions of our level-of-trade analyses for these preliminary results, see the preliminary results analysis memoranda to Robert James, on file in Import Administration's Central Records Unit, Room B-099 of the main Commerce building.

F. Home Market Price

We based home market prices on the packed, ex-factory or delivered prices to affiliated purchasers (where an arm's-length relationship was demonstrated) and unaffiliated purchasers in the home market. We made adjustments for differences in packing and for movement expenses in accordance with sections 773(a)(6)(A) and (B) of the Tariff Act. In addition, we made adjustments for differences in cost attributable to differences in physical characteristics of the merchandise pursuant to section 773(a)(6)(C)(ii) of the Tariff Act, and for differences in circumstances of sale (COS) in accordance with section 773(a)(6)(C)(iii) of the Tariff Act and 19 CFR 351.410. For comparison to EP we made COS adjustments by deducting home market direct selling expenses and adding U.S. direct selling expenses. For comparisons to CEP, we made COS adjustments to NV by deducting home market direct selling expenses. We also made adjustments, where applicable, for home market indirect selling expenses to offset U.S. commissions in EP and CEP calculations. No other adjustments were claimed or allowed.

In accordance with section 773(a)(4) of the Tariff Act, we based NV on CV if we were unable to find a contemporaneous home market match for the U.S. sale. We calculated CV based on the cost of materials and fabrication employed in producing the subject merchandise, SG&A, and profit. In accordance with 772(e)(2)(A) of the Tariff Act, we based SG&A expenses and profit on the amounts incurred and realized by the respondent in connection with the production and sale of the foreign like product in the ordinary course of trade for consumption in the foreign country. For selling expenses, we used the weighted-average home market selling expenses. To the extent possible, we calculated CV by level of trade, using the selling expenses and profit determined for each level of trade in the comparison market. Where appropriate, we made COS and level of trade adjustments to CV in accordance with section 773(a)(8) of the Tariff Act and 19 CFR 351.410. For comparisons to EP, we made COS adjustments by deducting home market direct selling expenses and adding U.S. direct selling expenses. For comparisons to CEP, we made COS adjustments by deducting home market direct selling expenses. We also made adjustments, where applicable, for home market indirect selling expenses to offset commissions in EP and CEP comparisons.

Preliminary Results of Review

As a result of our reviews, we preliminarily determine the following weighted-average dumping margins exist for the period October 1, 1998, through September 30, 1999, to be as follows:

Manufacturer/ Exporter | Margin (percent)
For the A-588-054 Case:
Koyo Seiko | 14.86
NSK | 16.60
For the A-588-604 Case:
Koyo Seiko | 17.94
NTN | 12.96
NSK | 7.75

The Department will disclose calculations performed within five days of the date of publication of this notice in accordance with 19 CFR 351.224(b). An interested party may request a hearing within thirty days of publication. See CFR 351.310(c). Any hearing, if requested, will be held 37 days after the date of publication, or the first business day thereafter, unless the Department alters the date per 19 CFR 351.310(d). Interested parties may submit case briefs and/or written comments no later than 30 days after the date of publication of these preliminary results of review. Rebuttal briefs and rebuttals to written comments, limited to issues raised in the case briefs and comments, may be filed no later than 35 days after the date of publication of this notice. Parties who submit argument in these proceedings are requested to submit with the argument (1) a statement of the issue, (2) a brief summary of the argument and (3) a table of authorities. Further, we would appreciate it if parties submitting written comments would provide the Department with an additional copy of the public version of any such comments on diskette. The Department will issue final results of these administrative reviews, including the results of our analysis of the issues in any such written comments or at a hearing, within 120 days of publication of these preliminary results.

The Department shall determine, and the U.S. Customs Service shall assess, antidumping duties on all appropriate entries. In accordance with 19 CFR 351.212(b)(1), we will calculate importer-specific ad valorem assessment rates for the merchandise based on the ratio of the total amount of antidumping duties calculated for the examined sales made during the POR to the total customs value of the sales used to calculate those duties. This rate will be assessed uniformly on all entries of that particular importer made during the POR. The Department will issue appropriate appraisement instructions directly to the Customs Service upon completion of the review.

Furthermore, the following deposit requirements will be effective upon completion of the final results of these administrative reviews for all shipments of TRBs from Japan entered, or withdrawn from warehouse, for consumption on or after the publication date of the final results of these administrative reviews, as provided by section 751(a)(1) of the Tariff Act:

(1) The cash-deposit rates for the reviewed companies will be the rates shown above except that, for firms whose weighted-average margins are less than 0.5 percent and therefore de minimis, the Department shall not require a deposit of estimated antidumping duties;

(2) For previously reviewed or investigated companies not listed above, the cash deposit rate will continue to be the company-specific rate published for the most recent period;

(3) If the exporter is not a firm covered in these reviews, a prior review, or the LTFV investigations, but the manufacturer is, the cash deposit rate will be the rate established for the most recent period for the manufacturer of the merchandise; and

(4) If neither the exporter nor the manufacturer is a firm covered in these or any previous reviews conducted by the Department, the cash deposit rate will be 18.07 percent for the A-588-054 case, and 36.52 percent for the A-588-604 case (see Preliminary Results of Antidumping Duty Administrative Reviews; Tapered Roller Bearings, Finished and Unfinished, and Parts Thereof, from Japan and Tapered Roller Bearings, Four Inches or less in Outside Diameter, and Components Thereof, From Japan, 58 FR 51061 (September 30, 1993)).

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing this notice in accordance with sections 751(a)(1) and 777(i)(1) of the Tariff Act.

Dated: October 30, 2000.
Troy H. Cribb,
Assistant Secretary for Import Administration.

[FR Doc. 00-28570 Filed 11-6-00; 8:45 am]

BILLING CODE 3510-DS-P